DEPARTMENT OF HEALTH AND HUMAN SERVICES

Centers for Disease Control and Prevention

Disease, Disability, and Injury Prevention and Control Special Emphasis Panel (SEP): Initial Review

The meeting announced below concerns the Pilot Program of Mailed Fecal Immunochemical Tests to Increase Colorectal Cancer Screening Rates, Special Interest Projects (SIP) 14-012; the Understanding the Barriers to Colorectal Cancer Screening among South Central Asian Immigrants in the United States, SIP-14-013; and the Development and Evaluation of Active Surveillance Decision aid for Men with Low-grade, Local-stage Prostate Cancer, SIP-14-014, Panel D, initial review.

Summary: This document corrects a notice that was published in the Federal Register on June 6, 2014 (79 FR 32737-32738). The time and date should read as follows:

Time and Date: 9:30 a.m.-3:30 p.m., June 19, 2014 (Closed).

For Further Information Contact: Gwendolyn H. Cattledge, Ph.D., M.S.E.H., F.A.C.E., Deputy Associate Director for Science, National Center for Injury Prevention and Control, CDC, 4770 Buford Highway NE., Mailstop F63, Atlanta, Georgia 30341, Telephone: (770) 488-4655, GXC8@cdc.gov.

The Director, Management Analysis and Services Office, has been delegated the authority to sign Federal Register notices pertaining to announcements of meetings and other committee management activities, for both the Centers for Disease Control and Prevention and the Agency for Toxic Substances and Disease Registry.

Gary Johnson,
Acting Director, Management Analysis and Services Office, Centers for Disease Control and Prevention.

[FR Doc. 2014-14975 Filed 6-25-14; 8:45 am]

BILLING CODE 4163-18-P